DEPARTMENT OF AGRICULTURE

Agricultural Marketing Service

[FV-04-338]

Notice of Request for Extension and Revision of a Currently Approved Information Collection

AGENCY: Agricultural Marketing Service, USDA.

ACTION: Notice and request for comments.

SUMMARY: In accordance with the Paperwork Reduction Act of 1995 (44 U.S.C. Chapter 35), this notice announces the intention of the Agricultural Marketing Service (AMS) to request an extension for and revision to a currently approved information collection in support of the Regulations Governing Inspection and Certification of Processed Fruits and Vegetables and Related Products.

DATES: Comments may be submitted on or before November 29, 2004.

ADDITIONAL INFORMATION OR COMMENTS: Contact Terry B. Bane, Processed Products Branch, Fruit and Vegetable Programs, Agricultural Marketing Service, U.S. Department of Agriculture, STOP 0247, 1400 Independence Avenue, SW., Washington, DC 20250-0247; fax (202) 690-1527; or e-mail terry.bane@usda.gov.

SUPPLEMENTARY INFORMATION: Title: “Regulations Governing Inspection and Certification of Processed Fruits and Vegetables and Related Products—7 CFR 52”.

OMB Number: 0581-0123.

Expiration Date of Approval: April 30, 2005.

Type of Request: Extension and revision of a currently approved information collection.

Abstract: The Agricultural Marketing Act of 1946 (7 U.S.C. 1621 et seq.) (AMA) directs and authorizes the Department to develop standards of quality, grades, grading programs, and other services to facilitate trading of agricultural products and assure consumers of quality products which are graded and identified under USDA programs. Section 203(h) of the AMA specifically directs and authorizes the Secretary of Agriculture to inspect, certify, and identify the grade, class, quality, quantity, and condition of agricultural products under such rules and regulations as the Secretary may prescribe, including assessment and collection of fees for the cost of the service. The regulations for such services for processed fruits and vegetables and related products may be found at 7 CFR Part 52. AMS also provides other types of voluntary services under the same regulations, e.g., contract and specification acceptance services, facility assessment services and certifications of quantity and quality. Grading services are available on a resident basis or a lot-fee basis. Respondents may request resident service on a continuous basis or on an as-needed basis. The service is paid for by the user (user-fee). The AMA and these regulations do not mandate the use of these services; they are provided only to those entities that request or apply for a specific service. In order for the Agency to satisfy those requests for service, the Agency must request certain information from those who apply for service. The information collected is used only by Agency personnel and is used to administer services requested by the respondents. Affected public may include any partnership, association, business trust, corporation, organized group, and State, County or Municipal government, and any authorized agent that has a financial interest in the commodity involved and requests service.

Estimate of Burden: Public reporting burden for this collection of information is estimated to average 0.05 hours per response (1124 total hours divided by 21,068 total annual responses).

Respondents: Applicants who are applying for grading and inspection services.

Estimated Number of Respondents: 1,437.

Estimated Number of Responses: 21,068.

Estimated Number of Responses per Respondent: 0.07.

Estimated Total Annual Burden on Respondents: 1,124.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Mr. Terry B. Bane, Processed Products Branch, Fruit and Vegetable Programs, Agricultural Marketing Service, U.S. Department of Agriculture, STOP 0247, 1400 Independence Avenue, SW., Washington, DC 20250-0247; fax (202) 690-1527; or e-mail terry.bane@usda.gov.

All comments received will be available for public inspection during regular business hours at the same address.

All responses to this notice will be summarized and included in the request for OMB approval. All comments will become a matter of public record.

Dated: September 22, 2004.
A.J. Yates,
Administrator, Agricultural Marketing Service.

[FR Doc. 04-21626 Filed 9-27-04; 8:45 am]

BILLING CODE 3410-02-P